FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 4601.

Name: Advanced Cargo Services Corp.

Address: 333 N. Marine Ave., Wilmington, CA 90744.

Date Revoked: February 15, 2001.

Reason: Failed to maintain a valid bond.

License Number: 3262N.

Name: GES Logistics, Inc.

Address: 235 E. Broadway, Suite 406, Long Beach, CA 90802.

Date Revoked: February 21, 2001.

Reason: Failed to maintain a valid bond.

License Number: 3550F.

Name: Seair Export Import Services, Inc.

Address: 10480 NW South River Drive, Medley, FL 33178.

Date Revoked: February 9, 2001.

Reason: Failed to maintain a valid bond.

License Number: 4541F.

Name: Southeast Logistics International, Inc.

Address: 122 Agape Street, Williamson, GA 30292.

Date Revoked: February 9, 2001.

Reason: Failed to maintain a valid bond.

License Number: 16476NF.

Name: Transportation Logistics Int'l., Inc.

Address: 811 Route 33, Freehold, NJ 07728

Date Revoked: February 22, 2001.

Reason: Failed to maintain valid bonds.

Sandra L. Kusumoto,
Director, Bureau of Consumer Complaints and Licensing.

[FR Doc. 01-7034 Filed 3-20-01; 8:45 am]

BILLING CODE 6730-01-P